DEPARTMENT OF DEFENSE

Department of the Navy

Notice of Availability for the Final Environmental Impact Statement for the Proposed Modernization and Expansion of Townsend Bombing Range, Georgia

AGENCY: Department of the Navy, DoD.

ACTION: Notice.

SUMMARY: Pursuant to section (102)(2)(c) of the National Environmental Policy Act (NEPA) of 1969 and regulations implemented by the Council on Environmental Quality (40 Code of Federal Regulations [CFR] Parts 1500-1508), Department of the Navy (DoN) NEPA regulations (32 CFR part 775) and United States Marine Corps (USMC) NEPA directives (Marine Corps Order P5090.2A, changes 1 and 2), the USMC has prepared and filed with the United States Environmental Protection Agency (USEPA) a Final Environmental Impact Statement (Final EIS) that evaluated potential environmental impacts of acquiring additional property and constructing the necessary infrastructure to allow the use of precision-guided munitions (PGMs) at Townsend Bombing Range (TBR), Georgia. Through the use of PGMs at TBR, the USMC can more efficiently meet current training requirements for pilots by significantly increasing air-to-ground training capabilities at Marine Corps Air Station (MCAS) Beaufort, South Carolina.

DATES AND ADDRESSES: The USEPA's Notice of Availability (NOA) and Notice of Public Meeting for the Draft EIS was published in the Federal Register on July 13, 2012 (77 FR 41402). Federal, state, and local agencies, citizens groups and associations, and other interested parties provided oral and written comments to the USMC and identified specific issues or topics of environmental concern that should be addressed in the Final EIS. The USMC responded to all these comments and updated portions of the Final EIS, where appropriate.

The Final EIS has been distributed to federal, state, and local agencies, citizens groups and associations, and other interested parties. In addition, a copy of the Final EIS was distributed to the following libraries:

1. Ida Hilton Public Library, 1105 North Way, Darien, GA 31305.

2. Long County Public Library, 28 South Main Street, Ludowici, GA 31316.

3. Hog Hammock Public Library, 1023 Hillery Lane, Sapelo Island, GA 31327.

An electronic version of the Final EIS can be viewed or downloaded from the project Web site: http://www.townsendbombingrangeeis.com.

FOR FURTHER ASSISTANCE CONTACT: Capt. Cochran, 596 Geiger Blvd. MCAS Beaufort, SC 29904 at 843-228-6123.

SUPPLEMENTARY INFORMATION: Through the preparation of a Universal Need Statement (UNS), Marine Aircraft Group 31 (MAG-31) identified its requirement for an air-to-ground training range that allows aircrews to utilize PGMs in a realistic training environment. Following the preparation of the UNS, the USMC began the process to certify the requirement to establish an air-to-ground training range to support MAG-31's aviation training needs and develop the approach to accommodate this requirement. MAG-31's need for an air-to-ground range that can accommodate realistic PGM training allowed the USMC and the DoN to request the DoD's approval to study the land acquisition alternatives that could support the creation of a modernized air-to-ground training range. The USMC then initiated the preparation of the EIS to examine the potential impacts of the proposed land acquisition and airspace modification alternatives that could meet the training requirement.

The USMC conducted a multi-step screening process to identify candidate ranges and alternatives that meet the purpose and need. To achieve this, the USMC: (1) Developed range evaluation criteria by identifying key physical and operational attributes required to support training with PGMs; (2) identified existing candidate DoD ranges in the Southeastern United States; and (3) evaluated the candidate ranges against the range evaluation criteria. As a result of the evaluations, seven candidate ranges were identified and subjected to initial analysis; however, only TBR satisfied all of the screening criteria and was carried forward for full analysis in the EIS.

Purpose and Need: The purpose of the Proposed Action is to provide an air-to-ground training range capable of providing a wider variety of air-to-ground operations, including the use of PGMs, to meet current training requirements. The Proposed Action is needed to more efficiently meet current training requirements for USMC aviation assets by significantly increasing air-to-ground training capabilities in the Beaufort, South Carolina Region.

Proposed Action: The Proposed Action in the FEIS evaluated potential environmental impacts of acquiring additional property and constructing the necessary infrastructure to allow the use of PGMs at TBR, Georgia.

The Proposed Action includes five interrelated components:

(1) Acquisition of land;

(2) Acquisition of a timber easement;

(3) Modification of existing airspace;

(4) Construction of infrastructure to support PGM training; and

(5) Improvement of training capabilities.

Alternatives Evaluated in the FEIS: The USMC analyzed four action alternatives and a No Action Alternative. All four action alternatives involved the acquisition and management of land and a timber easement, the modification of existing airspace, and the construction of infrastructure to support PGM training, and would result in the improvement of training capabilities. The land acquired under each action alternative involved different strategic combinations of three possible land acquisition areas (referred to as “Acquisition Area 1A,” “Acquisition Area 1B,” and “Acquisition Area 3”). Similarly under all four action alternatives, the USMC proposed to modify the existing airspace based on the amount of land acquired. Any combination of the land proposed to be acquired would be under the current Restricted Area R-3007. All the action alternatives involved the installation of target scoring equipment, facility and/or tower construction, and roadway construction/improvement. The USMC identified Alternative 4 as the Preferred Alternative, which includes acquisition of Areas 1B and 3 (28,630 acres) and construction of six new target areas.

Environmental Compliance: The USMC prepared the Final EIS per the guidance provided in 40 CFR 1502.9, with the purpose of fully analyzing environmental impacts as a result of implementing the Proposed Action through selection of the Preferred Alternative. Impacts were assessed for the following resource areas: Land use; socioeconomics; recreation; wetlands; water resources; airspace; noise; biological resources; cultural resources; air quality; transportation; noise; topography, geology, and soils; utilities and infrastructure; and hazardous materials and waste. However, it was determined through the EIS analysis that only socioeconomics would be significantly impacted as a result of the Proposed Action.

Schedule: Publication of the USEPA's NOA signifies the beginning of a 30-day waiting period (No Action Period). In accordance with NEPA, the Assistant Secretary of the Navy (Installations and Environment) will publish the Record of Decision in the Federal Register after the 30-day waiting period has ended.

Dated: March 8, 2013.
C.K. Chiappetta,
Lieutenant Commander, Office of the Judge Advocate General, U.S. Navy, Federal Register Liaison Officer.

[FR Doc. 2013-06588 Filed 3-21-13; 8:45 am]

BILLING CODE 3810-FF-P